FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 3, 2009.

A. Federal Reserve Bank of Atlanta (Steve Foley, Vice President) 1000 Peachtree Street, N.E., Atlanta, Georgia 30309:

1. Richard Franklin Combs, Braselton, Georgia; to retain voting shares of Verity Capital Group, Inc., Dahlonega, Georgia, and thereby indirectly retain voting shares of Verity Bank, Winder, Georgia.

B. Federal Reserve Bank of Minneapolis (Jacqueline G. King, Community Affairs Officer) 90 Hennepin Avenue, Minneapolis, Minnesota 55480-0291:

1. Dennis G. Bilski, individually and as part of a group acting in concert along with the Marsha L. Ritt Revocable Living Trust, co-trustees Marsha L. Ritt, Dennis G. Bilski, Londa G. Bilksi, all of Plymouth, Minnesota; Gerald A. Bilksi, Sandra J. Bilski, Michael A. Adducci, Debra J. Adducci, John C. Holper, Linda M. Holper, all of Woodbury, Minnesota; Michael A. Bilski and Jacqueline S. Bilski, both of Fridley, Minnesota; to retain voting shares of N.A. Corporation, and thereby indirectly retain voting shares of North American Banking Company, both of Roseville, Minnesota.

Board of Governors of the Federal Reserve System, August 14, 2009.
Robert deV. Frierson,
Deputy Secretary of the Board.

[FR Doc. E9-19847 Filed 8-18-09; 8:45 am]

BILLING CODE 6210-01-S